NUCLEAR REGULATORY COMMISSION

[NRC-2021-0186]

Privacy Act of 1974; Systems of Records

AGENCY: Nuclear Regulatory Commission.

ACTION: Notice of new system of records.

SUMMARY: Pursuant to the Privacy Act of 1974 and Office of Management and Budget (OMB) Circular No. A-108, notice is hereby given that the U.S. Nuclear Regulatory Commission (NRC) proposes to develop a new system of records notice titled, “Health Emergency Records,” NRC 46. NRC proposes to establish this system of records to protect the NRC's workforce and respond to the Coronavirus Disease 2019 (COVID-19), a declared public health emergency, and other high consequence public health threats.

DATES: Submit comments on this new system of records by December 6, 2021. Comments received after this date will be considered if it is practical to do so, but the Commission is able to ensure consideration only for comments received before this date. This proposed action will be effective on the day following the end of the comment period unless comments are received which result in a contrary determination.

ADDRESSES: You may submit comments by any of the following methods; however, the NRC encourages electronic comment submission through the Federal Rulemaking website:

• Federal Rulemaking Website: Go to https://www.regulations.gov and search for Docket ID NRC-2021-0186. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Sally Hardy, Office of the Chief Information Officer, U.S. Nuclear Regulatory Commission, Washington, DC 20555-0001, telephone: 301-415-5607; email: Sally.Hardy@nrc.gov.

SUPPLEMENTARY INFORMATION:

I. Obtaining Information and Submitting Comments

A. Obtaining Information

Please refer to Docket ID NRC-2021-0186 when contacting the NRC about the availability of information for this action. You may obtain publicly available information related to this action by any of the following methods:

• Federal Rulemaking Website: Go to https://www.regulations.gov and search for Docket ID NRC-2021-0186.

• NRC's Agencywide Documents Access and Management System (ADAMS): You may obtain publicly available documents online in the ADAMS Public Documents collection at https://www.nrc.gov/reading-rm/adams.html. To begin the search select, “Begin Web-based ADAMS Search.” For problems with ADAMS, please contact the NRC's Public Document Room (PDR) reference staff at 1-800-397-4209, 301-415-4737, or by email pdr.resource@nrc.gov.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

B. Submitting Comments

The NRC encourages electronic comment submission through the Federal Rulemaking website (https://www.regulations.gov). Please include Docket ID NRC-2021-0186 in the subject line of your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to the Privacy Act of 1974 and OMB Circular No. A-108, “Federal Agency Responsibilities for Review, Reporting, and Publication under the Privacy Act,” notice is hereby given that the NRC proposes to establish this system of records notice.

The proposed new system requires an advance period for public comment.

A report on this new system has been sent to OMB, the Committee on Homeland Security and Governmental Affairs of U.S. Senate, and the Committee on Oversight and Reform of the U.S. House of Representatives, as required by the Privacy Act.

If changes are made based on the NRC's review of comments received, the NRC will publish a subsequent notice.

SUPPLEMENTARY INFORMATION: The text of the report is attached.

Dated: November 2, 2021.
For the Nuclear Regulatory Commission.
Scott C. Flanders,
Senior Agency Official for Privacy, Office of the Chief Information Officer.

Attachment—Nuclear Regulatory Commission Privacy Act Systems of Records

NRC Systems of Records

46. Health Emergency Records—NRC

This system of record is maintained by the NRC and contains personal information about individuals from which information is retrieved by an individual's name or identifier.

The notice for this system of records states the name and location of the record system, the authority for and manner of its operation, the categories of individuals that it covers, the types of records that it contains, the sources of information in those records, and the routine uses. This notice also includes the business address of the NRC official who will inform interested persons of the procedures whereby they may gain access to and request amendment of records pertaining to them.

The Privacy Act provides certain safeguards for an individual against an invasion of personal privacy by requiring Federal agencies to protect records contained in an agency system of records from unauthorized disclosure and to ensure that information is current and accurate for its intended use and that adequate safeguards are provided to prevent misuse of such information.

SYSTEM NAME AND NUMBER:

Health Emergency Records—NRC 46.

SECURITY CLASSIFICATION:

Unclassified.

SYSTEM LOCATION:

Headquarters, 11555 Rockville Pike, Rockville, Maryland. Records may be maintained at all locations at which the NRC, or contractors on behalf of the NRC, operate or at which NRC operations are supported.

SYSTEM MANAGER(S):

Chief Human Capital Officer, Office of the Chief Human Capital Officer, U.S. Nuclear Regulatory Commission, Washington, DC 20555-0001.

AUTHORITY FOR MAINTENANCE OF THE SYSTEM:

Workforce safety Federal requirements, including the Occupational Safety and Health Act of 1970; Executive Order 12196, “Occupational safety and health programs for Federal employees;” 5 U.S.C. 7902, “Safety programs;” Federal laws related to a specific public health emergency or high-consequence public health threats, including, Executive Order 13991, “Protecting the Federal Workforce and Requiring Mask-Wearing,” Executive Order 13994, “Ensuring a Data-Driven Response to COVID-19 and Future High-Consequence Public Health Threats,” Executive Order 14042, “Ensuring Adequate COVID Safety Protocols for Federal Contractors,” and Executive Order 14043, “Requiring Coronavirus Disease 2019 Vaccination for Federal Employees,” Federal laws that authorize the NRC to create and maintain Federal records of agency activities, including 44 U.S.C. 3101; the Religious Freedom Restoration Act of 1933, 42 U.S.C. Chapter 21B; Title VII of the Civil Rights Act of 1964, as amended, 42 U.S.C. 2000e; and the Rehabilitation Act of 1973, as amended, 29 U.S.C. 701 et seq.

PURPOSE(S) OF THE SYSTEM:

This system is to maintain records necessary and relevant to NRC activities responding to and mitigating high-consequence public health threats, including, but not limited to: COVID-19 or diseases and illnesses relating to a public health emergency, pandemic, or other high-consequence public health threat. The President's September 9, 2021, Executive Order 14043, requires all Federal workers to be vaccinated, except in limited circumstances as required by law. Accordingly, this this system of records is also designed to collect records related to vaccination status, including requests for an exception to the vaccination requirement. Such records may include, but are not limited to, those records needed to understand the impact of an illness or disease on the NRC workforce, to assist the NRC in protecting its workforce from a declared public health emergency, pandemic, or other high-consequence public health threat, as well as those records submitted by NRC personnel, or the lawful representative of such personnel, requesting an exception to the vaccination requirement contained in Executive Order 14043, or other applicable law.

Among other things, the NRC may use the information collected to facilitate the provision of vaccines to NRC personnel, including employees, interns, and contractors; to inform individuals who may have been in proximity of a person possibly infected with a disease, illness, or other high-consequence public health threat at or on buildings, grounds, and properties that are owned, leased, or used by the NRC; to confirm which personnel have received vaccinations to prevent such disease or illness to spread throughout the NRC's workforce; to consider requests for an exception to the COVID-19 vaccination requirement; to respond to inquiries regarding such vaccinations for purposes related to official agency travel, access to licensee facilities, NRC site access, or implementation/lifting of access restrictions; or to determine and report the aggregate number of vaccinated NRC staff, or the number of staff that received a legal exception to the vaccine requirement.

CATEGORIES OF INDIVIDUALS COVERED BY THE SYSTEM:

NRC's personnel, including employees, interns, and contractors.

CATEGORIES OF RECORDS IN THE SYSTEM:

Records maintained in this system may include:

A. Full name, NRC employee ID number; telephone number, worksite, email address, supervisor's name, address and contact information and/or the contractor's supervisor/contracting officer representative name, address and contact information.

B. Date(s) and circumstances of the individual's suspected or actual exposure to disease or illness including symptoms, as well as locations within the NRC workplace where the individual may have contracted or been exposed to the disease or illness.

C. Other information of the individual directly related to the disease or illness (e.g., testing results/information, symptoms, treatments, and source of exposure).

D. Appointment scheduling information, including the date, time, and location of a scheduled appointment.

E. Medical screening information, including the individual's name, date of birth, age, category of employment, current medical status, vaccination history, and any relevant medical history.

F. Vaccination records, including the date, type, and dose of vaccine administered to the individual.

G. Requests for an exception to the COVID-19 vaccination requirement, including, but not limited to, the employee's name and relevant information related to the request.

RECORD SOURCE CATEGORIES:

Records may be obtained from NRC personnel, including employees, contractors, and interns, who may provide relevant information on a suspected or confirmed disease or illness, or the prevention of such disease or illness, which is the subject of a declared public health emergency, or information related to a request for an exception from the COVID-19 vaccination requirement. Information may also be sourced from personnel at medical facilities, or from existing systems of records, including but not limited to NRC-43, “Employee Health Center Records,” (84 FR 71536; December 27, 2019) or OPM/GOVT-10, “Employee Medical File System Records,” (75 FR 35099; June 21, 2010), and modified on November 30, 2015 (80 FR 74815).

ROUTINE USES OF RECORDS MAINTAINED IN THE SYSTEM, INCLUDING CATEGORIES OF USERS AND THE PURPOSES OF SUCH USES:

In addition to the disclosures permitted under subsection (b) of the Privacy Act, the NRC may disclose information contained in this system of records without the consent of the persons or entities mentioned herein if the disclosure is compatible with the purpose for which the record was collected under the following routine uses:

A. To appropriate medical facilities, or Federal, State, local, Tribal, territorial or foreign government agencies, to the extent permitted by law, for the purpose of protecting the vital interests of individual(s), including to assist the United States Government in responding to or mitigating high-consequence public health threats, or diseases and illnesses relating to a public health emergency.

B. To determine eligibility for access to NRC buildings, NRC licensee facilities or sites, or other Federal facilities.

C. To provide licensees information needed for unescorted access or access to the licensee's facility(s).

D. Where a record, either alone or in conjunction with other information, indicates a violation or potential violation of law—criminal, civil, or regulatory in nature—the relevant records may be referred to the appropriate Federal, State, local, territorial, Tribal, or foreign law enforcement authority or other appropriate entity charged with the responsibility for investigating or prosecuting such violation or charged with enforcing or implementing such law.

E. In an appropriate proceeding before a court, grand jury, or administrative or adjudicative body, when the NRC determines that the records are arguably relevant to its proceeding; or in an appropriate proceeding before an administrative or adjudicative body when the adjudicator determines the records to be relevant to the proceeding.

F. To contractors, grantees, experts, consultants, students, and others performing or working on a contract, service, grant, cooperative agreement, or other assignment for the Federal Government, when necessary to accomplish an NRC function related to this system of records.

G. A record on an employee or contractor from this system of records may be disclosed as a routine use to a Federal, State, local, territorial, Tribal, or foreign agency requesting a record that is relevant and necessary to its decision on a matter of hiring or retaining an employee, issuing a security clearance, reporting an investigation of that individual, letting a contract, or issuing a license, grant, or other benefit.

H. A record on an employee or contractor from this system of records may be disclosed as a routine use to a Congressional office in response to an inquiry from the Congressional office made at the request of that individual.

I. To the National Archives and Records Administration for purposes of records management inspections conducted under the authority of 44 U.S.C. 2904 and 2906.

J. To appropriate agencies, entities, and persons when (1) the NRC suspects or has confirmed that there has been a breach of the system of records. (2) the NRC has determined that as a result of the suspected or confirmed breach there is a risk of harm to an individual(s), the NRC (including its information systems, programs, and operations), the Federal Government, or national security; and (3) the disclosure made to such agencies, entities, and persons is reasonably necessary to assist in connection with the NRC's efforts to respond to the suspected or confirmed breach or to prevent, minimize, or remedy such harm.

K. To another Federal agency or Federal entity, when the NRC determines that information from this system of records is necessary to assist the recipient agency or entity in (1) responding to a suspected or confirmed breach, or (2) preventing, minimizing, or remedying the risk of harm to individuals, the recipient agency or entity (including its information systems, programs, and operations), the Federal Government, or national security, resulting from a suspected or confirmed breach.

L. To any agency, organization, or individual for the purpose of performing authorized audit or oversight operations of the NRC and meeting related reporting requirements.

M. To such recipients and under such circumstances and procedures as are mandated by Federal statute or treaty.

N. A record from this system of records may be disclosed as a routine use to NRC-paid experts or consultants, and those under contract with the NRC on a “need-to-know” basis for purpose within the scope of the pertinent NRC task. This access will be granted to an NRC contractor or employee of such contractor by a system manager only after satisfactory justification has been provided to the system manager.

O. To a Federal agency employee, expert, consultant, or contractor in performing a Federal duty for purposes of authorizing, arranging, and/or claiming reimbursement for official travel, including, but not limited to, traveler profile information.

POLICIES AND PRACTICES FOR STORAGE OF RECORDS:

All records in this system of records are maintained and in compliance with applicable executive orders, statutes, and agency implementing recommendations. Electronic records are stored in databases and/or on hard disks, removable storage devices, or other electronic media. Paper records are maintained in a secure, access controlled room, with access limited to authorized personnel.

POLICIES AND PRACTICES FOR RETRIEVAL OF RECORDS:

Records will be retrieved by any of the categories of records, including name, location, date of vaccination, or work status.

POLICIES AND PRACTICES FOR RETENTION AND DISPOSAL OF RECORDS:

To the extent applicable, to ensure compliance with Americans with Disabilities Act, the Rehabilitation Act, and the Genetic Information Nondiscrimination Act of 2008, medical information must be “maintained on separate forms and in separate medical files and be treated as a confidential medical record.” 42 U.S.C. 12112(d)(3)(B); 42 U.S.C. sec 2000ff-5(a); 29 CFR 1630.14(b)(1), (c)(1),(d)(4)(i); and 29 CFR 1635.9(a). This means that medical information and documents must be stored separately from other personnel records. As such, the NRC must keep medical records for at least 1 year from creation date. 29 CFR 1602.14. Further, records compiled under this system of record notices will be maintained in accordance with the National Archives and Records Administration General Records Schedule 2.7 Employee Health and Safety Records, Items 010, 070, or 080 to the extent applicable.

GRS 2.7 item 010 (DAA-GRS-2017-0010-0001)—Clinic scheduling records. Temporary. Destroy when 3 years old, but longer retention is authorized if needed for business use.

GRS 2.7 item 070 (DAA-GRS-2017-0010-0012)—Non-occupational individual case files. Temporary. Destroy 10 years after the most recent encounter, but longer retention is authorized if needed for business use.

GRS 2.7 item 080 (DAA-GRS-2017-0010-0013)—Non-occupational health and wellness program records. Temporary. Destroy 3 years after the project/activity/or transaction is completed or superseded, but longer retention is authorized if needed for business use.

ADMINISTRATIVE, TECHNICAL, AND PHYSICAL SAFEGUARDS:

The NRC safeguards records in this system according to applicable rules and polices, including all applicable NRC automated systems security and access policies. The NRC has imposed controls to minimize the risk of compromising the information that is being stored. Users of individual computers can only gain access to the data by valid user identification and password. Paper records are maintained in a secure, access- controlled room, with access limited to authorized personnel.

RECORDS ACCESS PROCEDURES:

Same as “Notification procedures.”

CONTESTING RECORD PROCEDURES:

Same as “Notification procedures.”

NOTIFICATION PROCEDURES:

Individuals seeking to determine whether this system of records contains information about them should write to the Freedom of Information Act Officer or Privacy Act Officer, Office of the Chief Information Officer, U.S. Nuclear Regulatory Commission, Washington, DC 20555-0001, and comply with procedures contained in NRC's Privacy Act regulations, 10 CFR part 9.

EXEMPTIONS CLAIMED FOR THE SYSTEM:

None.

HISTORY:

None.

Addendum I—List of U.S. Nuclear Regulatory Commission Locations

Part 1—NRC Headquarters Offices

1. One White Flint North, 11555 Rockville Pike, Rockville, Maryland.

2. Two White Flint North, 11545 Rockville Pike, Rockville, Maryland.

Part 2—NRC Regional Offices

1. NRC Region I, 2100 Renaissance Boulevard, Suite 100, King of Prussia, Pennsylvania.

2. NRC Region II, Marquis One Tower, 245 Peachtree Center Avenue NE, Suite 1200, Atlanta, Georgia.

3. NRC Region III, 2443 Warrenville Road, Suite 210, Lisle, Illinois.

4. NRC Region IV, 1600 East Lamar Boulevard, Arlington, Texas.

5. NRC Technical Training Center, Osborne Office Center, 5746 Marlin Road, Suite 200, Chattanooga, Tennessee.

[FR Doc. 2021-24283 Filed 11-4-21; 8:45 am]

BILLING CODE 7590-01-P